DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 70 FR 72842-72843, dated December 7, 2005) is amended to reflect the title change for the Division of Injury and Disability Outcomes, National Center for Injury Prevention and Control, Centers for Disease Control and Prevention.

Section C-B, Organization and Functions, is hereby amended as follows:

Delete in its entirety the title for the Division of Injury and Disability Outcomes (CE6) and insert the Division of Injury Response (CTCE).

Dated: January 27, 2006
William H. Gimson,
Chief Operating Officer, Centers for Disease Control and Prevention (CDC).

[FR Doc. 06-1199 Filed 2-8-06; 8:45 am]

BILLING CODE 4160-18—M